FEDERAL COMMUNICATIONS COMMISSION

Radio Broadcasting Services; AM or FM Proposals To Change The Community of License

AGENCY: Federal Communications Commission.

ACTION: Notice.

SUMMARY: The following applicants filed AM or FM proposals to change the community of license: AMERICAN FAMILY ASSOCIATION, Station KATG, Facility ID 86330, BPED-20120113ACF, From ATHENS, TX, To ELKHART, TX; CALVARY CHAPEL OF KANSAS CITY, Station KYLF, Facility ID 174965, BMPED-20120117AEC, From FREEMAN, MO, To ADRIAN, MO; COCHISE BROADCASTING LLC, Station KZXQ, Facility ID 78273, BMPH-20111202AFT, From CONCHO, AZ, To LAKE OF THE WOODS, AZ; LINCOLN FINANCIAL MEDIA COMPANY OF COLORADO, Station KRWZ, Facility ID 30839, BP-20111230ABW, From DENVER, CO, To PARKER, CO; NORTH AMERICAN BROADCASTING COMPANY, INC., Station WTDA, Facility ID 60099, BPH-20101004ACN, From WESTERVILLE, OH, To WORTHINGTON, OH; NORTH AMERICAN BROADCASTING COMPANY, INC., Station WMNI, Facility ID 49110, BP-20111222ANT, From COLUMBUS, OH, To WESTERVILLE, OH; PYEATT, KATHERINE, Station NEW, Facility ID 189519, BNPH-20110622AAD, From ELKHART, TX, To WHEELOCK, TX; WALKING BY FAITH MINISTRIES, INC., Station WAML, Facility ID 52617, BP-20111114AEK, From LAUREL, MS, To COLLINS, MS; WAY MEDIA, INC., Station KFWA, Facility ID 79249, BPH-20111230ACI, From PARKER, CO, To WELDONA, CO.

DATES: The agency must receive comments on or before April 2, 2012.

ADDRESSES: Federal Communications Commission, 445 Twelfth Street SW., Washington, DC 20554.

FOR FURTHER INFORMATION CONTACT: Tung Bui, (202) 418-2700.

SUPPLEMENTARY INFORMATION: The full text of these applications is available for inspection and copying during normal business hours in the Commission's Reference Center, 445 12th Street, SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street SW., Room CY-B402, Washington, DC, 20554, telephone 1-(800) 378-3160 or www.BCPIWEB.com.

Federal Communications Commission
James D. Bradshaw,
Deputy Chief, Audio Division, Media Bureau.

[FR Doc. 2012-2067 Filed 1-30-12; 8:45 am]

BILLING CODE 6712-01-P